DEPARTMENT OF TRANSPORTATION

Federal Highway Administration

Environmental Impact Statement: St. Louis County, MO

AGENCY: Federal Highway Administration (FHWA), DOT.

ACTION: Notice of Intent.

SUMMARY: The FHWA is issuing this notice to advise the public that an environmental impact statement (EIS) will be prepared for a proposed highway project generally from the vicinity of Laclede Station Road and Hanley Road southeastward to River Des Peres Boulevard and Lansdowne Avenue in St. Louis County, Missouri.

FOR FURTHER INFORMATION CONTACT: Ms. Peggy J. Casey, Program Development Team Leader, FHWA Division Office, 3220 West Edgewood, Suite H, Jefferson City, MO 65109, Telephone: (573) 636-7104; or Mr. Kevin Keith, Interim Director, Missouri Department of Transportation, P.O. Box 270, Jefferson City, MO 65102, Telephone: (573) 751-2803. Questions may also be directed to the Local Public Agency sponsor by contacting: Mr. John Hicks, Transportation Development Analyst, St. Louis County Department of Highways and Traffic, 121 S. Meramec Avenue, Clayton, Missouri 63105, Telephone: (314) 615-8532.

SUPPLEMENTARY INFORMATION: The FHWA, in cooperation with the Missouri Department of Transportation (MoDOT) and St Louis County Department of Highways and Traffic (County), will prepare an EIS for a proposed roadway project in St. Louis County, Missouri. The project corridor begins in the vicinity of Laclede Station Road and Hanley Road, extending from the vicinity of Laclede Station Road and Hanley Road, extending southeastward to River Des Peres Boulevard and Lansdowne Avenue near the Shrewsbury MetroLink station. A location study will run concurrently with the preparation of the EIS and will provide definitive alternatives for evaluation in the EIS. The project is intended to provide additional access and improved connectivity between south St. Louis County and central St. Louis County, and to Interstates 44, 64, 55, and 170.

The needs for the proposed action include: (1) Roadway connectivity, (2) congestion, (3) roadway capacity, and (4) safety. The project study area is generally bounded by Manchester Road to the north, Hanley Road and Laclede Station Road to I-44 to the west, Murdoch Avenue and Watson Road to the south, and Big Bend Boulevard and River Des Peres on the east. The corridor is centered on the intersection of Laclede Station Road and Hanley Road. The corridor extends southeastward, generally parallel to Deer Creek, to River Des Peres Boulevard in the vicinity of Lansdowne Avenue in the City of St. Louis and in close proximity to the Shrewsbury MetroLink station. The study area is approximately two miles in length and one-half mile in width.

Alternatives under consideration include (1) Taking no action; (2) implementing transportation system management options; and (3) build alternatives. The evaluation of build alternatives will include a full interchange between the proposed build alternatives and Interstate 44, as applicable.

As part of the project scoping process, interagency coordination meeting(s) will be held with all appropriate Federal, State, and local agencies having jurisdiction or having specific expertise with respect to any environmental impacts associated with the proposed improvements. Agencies with jurisdiction by law will be asked to become cooperating agencies. Other agencies with interest in the project will be invited to become participating agencies. In addition, an open house public scoping meeting (the initial public meeting) will be held to solicit input from the public and to identify issues to be addressed in the EIS. The public scoping meeting is scheduled for Thursday, December 9, 2010 from 3 p.m. until 7 p.m. at the Affton White-Rodgers Community Center, located at 9801 Mackenzie Road, St. Louis, Missouri 63123. Coordination will continue throughout the study as an ongoing process, including public information meetings and further meetings with community officials to solicit public and agency input.

A location public hearing will be held to present the findings of the draft EIS (DEIS). Public notice will be given announcing the time and place of all public meetings and the public hearing. The DEIS will be available for public and agency review and comment prior to the public hearing. To ensure that the full range of issues related to this proposed action is addressed and all significant issues are identified, comments and suggestions are invited from all interested parties. Comments or questions concerning this proposed action and the EIS should be directed to the FHWA or MoDOT at the addresses provided above. Concerns in the study are primarily related to potential impacts to residences, cultural resources, and neighborhoods in the study area.

(Catalog of Federal Domestic Assistance Program Number 20.205, Highway Planning and Construction. The regulations implementing Executive Order 12372 regarding intergovernmental consultation on Federal programs and activities apply to this program.)

Issued on: November 2, 2010.
Peggy J. Casey,
Program Development Team Leader, Jefferson City.

[FR Doc. 2010-28159 Filed 11-5-10; 8:45 am]

BILLING CODE 4910-22-P